DEPARTMENT OF DEFENSE

Department of the Navy

Meeting of the Board of Advisors to the Presidents of the Naval Postgraduate School and the Naval War College; Correction

AGENCY: Department of the Navy, DoD.

ACTION: Notice; correction.

SUMMARY: The Department of the Navy published a document in the Federal Register (79 FR 3785) on January 23, 2014, concerning the open meeting of the Board of Advisors to the Presidents of the Naval Postgraduate School and the Naval War College. Due to changing requirements the location, starting and ending times of the meeting have changed.

DATES: The meeting will be held on Wednesday, February 19, 2014, from 11 a.m. to 5 p.m. and on Thursday, February 20, from 9 a.m. to 3 p.m. Eastern Time Zone.

ADDRESSES: The meeting will be held at 4825 Mark Center Drive, Alexandria, VA.

FOR FURTHER INFORMATION CONTACT: Ms. Jaye Panza, Naval Postgraduate School, Monterey, CA, 93943-5001, telephone number 831-656-2514.

Dated: January 23, 2014.
N. A. Hagerty-Ford,
Commander, Office of the Judge Advocate General, U.S. Navy, Federal Register Liaison Officer.

[FR Doc. 2014-01912 Filed 1-30-14; 8:45 am]

BILLING CODE 3810-FF-P